DEPARTMENT OF HEALTH AND HUMAN SERVICES

National Institutes of Health

Center for Scientific Review; Amended Notice of Meeting

Notice is hereby given of a change in the meeting of the Center for Scientific Review Special Emphasis Panel, November 5, 2003, 8 a.m. to November 6, 2003, 5 p.m., Governor's House Hotel, 1615 Rhode Island Avenue, NW., Washington, DC 20036, which was published in the Federal Register on October 31, 2003, 68 FR 62092-62094.

The meeting will be held at the St. Gregory Hotel, 2033 M Street, NW., Washington, DC 20036. The meeting dates and time remain the same. The meeting is closed to the public.

Dated: November 4, 2003.
LaVerne Y. Stringfield,
Director, Office of Federal Advisory Committee Policy.

[FR Doc. 03-28278 Filed 11-10-03; 8:45 am]

BILLING CODE 4140-01-M